DEPARTMENT OF THE INTERIOR

Bureau of Reclamation

Renewal of the Grassland Bypass Project, Fresno, Merced, and Stanislaus Counties, California

AGENCY: Bureau of Reclamation, Interior.

ACTION: Notice of availability of the final environmental impact statement/ environmental impact report (Final EIS/EIR).

SUMMARY: Pursuant to the National Environmental Policy Act and the California Environmental Quality Act, the Bureau of Reclamation (Reclamation) and the San Luis and Delta-Mendota Water Authority (Authority) prepared a joint Final EIS/EIR for the renewal of the Grassland Bypass Project through 2009. Since October 1996, the current Grassland Bypass Project has significantly improved the quality of water in more than 93 miles of channels used to deliver water to wetland habitat areas in central California, while sustaining the agricultural economy of the Grassland Drainage Area. Action taken by Reclamation would continue the Project through December 2009. The Final EIS/EIR addresses the potential environmental impacts expected to result from renewal of this Project and two alternatives.

DATES: Reclamation will not make a decision on the proposed action until 30 days after release of the Final EIS/EIR. After the 30-day waiting period, Reclamation will complete a Record of Decision (ROD). The ROD will state the action that will be implemented and will discuss all factors leading to the decision.

ADDRESSES: Copies of the Final EIS/EIR may be requested from Mr. Michael Delamore, Bureau of Reclamation, 1213 N Street, Fresno, California 93721; telephone (559) 487-5039; e-mail: mdelamore@mp.usbr.gov. The Executive Summary for the Final EIS/EIR will be posted on the Internet at http://www.mp.usbr.gov. See the SUPPLEMENTARY INFORMATION section for locations where copies of the Final EIS/EIR are available for public inspection.

FOR FURTHER INFORMATION CONTACT: Mr. Michael Delamore, at the address listed above, or Mr. Joe McGahan, Regional Drainage Coordinator, Summers Engineering Inc., P.O. Box 1122, Hanford, California 93232; telephone (559) 582-9237; e-mail jmcgahan@summerseng.com.

SUPPLEMENTARY INFORMATION: The purposes of the Grassland Bypass Project are to (1) continue separation of unusable agricultural drainwater discharged from the Grassland Drainage Area from wetland water supply conveyance channels for the period 2001-2009, and (2) facilitate drainage management that maintains the viability of agriculture in the Grassland Drainage Area and promote continuous improvement in water quality in the San Joaquin River.

Under the Proposed Action, unusable agricultural drainwater from about 98,000 acres of prime farmland would continue to be separated from wetland water supply channels and conveyed to Mud Slough, a tributary of the San Joaquin River. The monthly and annual loads of selenium and other constituents in this drainwater would be progressively reduced to meet water quality requirements in the river that will become effective in 2005 and 2010. The term of this Project will be October 1, 2001, through December 31, 2009.

In the Final EIS/EIR, the Proposed Action is compared with two alternatives: a No-Action Alternative, and the Mud Slough Bypass Alternative that would be the Grassland Bypass Project plus the construction of a facility that would convey drainwater directly to the San Joaquin River. The latter alternative would remove drainwater from 6 additional miles of Mud Slough and discharge it into the San Joaquin River downstream of its confluence with the Merced River.

Notice of the Draft EIS/EIR was published in the Federal Register on December 26, 2000 (65 FR 81545). Public hearings were held on February 2, 6, and 7, 2001. The written comment period ended February 27, 2001. The Final EIS/EIR contains responses to all comments received and changes made to the text of the Draft EIS/EIR as a result of those comments.

Copies of the Final EIS/EIR are available for inspection at the following locations:

• San Luis and Delta-Mendota Water Authority, 800 6th Street, Los Banos, California 93635; telephone: (209) 826-9696

• Bureau of Reclamation, South-Central California Area Office, 1243 N Street, Fresno, California 93721; telephone (559) 487-5116

• Bureau of Reclamation, Public Affairs Office, 2800 Cottage Way, Sacramento, California 95825; telephone (916) 978-5100

• Fresno County Public Library, Government Publications, 2420 Mariposa Street, Fresno, California 93721; telephone (559) 488-3198

• Merced County Public Library, Los Banos Branch, 1312 South 17th Street, Los Banos, California 93635; telephone (209) 826-5254

• University of California, Berkeley, Water Resources Center Archives, 410 O'Brien Hall, Berkeley, California 94720; telephone (510) 642-2666

• Bureau of Reclamation, Office of Policy, Room 7456, 1849 C Street NW., Washington, DC 20240; telephone: (202) 208-4662

• Natural Resources Library, U.S. Department of the Interior, 1849 C Street NW., Main Interior Building, Washington, DC 20240-0001

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: May 24, 2001.
Kirk. C. Rodgers,
Acting Regional Director.

[FR Doc. 01-13617 Filed 5-30-01; 8:45 am]

BILLING CODE 4310-MN-P